DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held Thursday and Friday, February 19 and 20, 2004, from 8:30 a.m. until 4:30 p.m. on both days, at The American Legion, Washington Office, 1608 K Street, NW., Washington, DC. The meeting is open to the public.

The purpose of the Committee is to review the post-war readjustment needs of veterans and to evaluate the availability and effectiveness of VA programs to meet these needs.

The agenda for February 19 will focus on military service-related needs of returning combatants from the war on terrorism in Afghanistan and Iraq. The day's activities will also cover the coordination of services between VA and the Department of Defense to ensure continuity of care for returning veterans.

On February 20, the Committee will be provided with an update of the recent activities of the Readjustment Counseling Service Vet Center program and a review of VA tele-medicine operations. The agenda for February 20 will also include strategic planning activities to formulate goals and objectives for the coming year. In addition, the Committee will formulate recommendations for submission to Congress in its annual report.

No time will be allocated at this meeting for receiving oral presentations from the public. However, members of the public may direct written questions or submit prepared statements for review by the Committee in advance of the meeting to Mr. Charlie M. Flora, M.S.W., Designated Federal Officer, Readjustment Counseling Service, Department of Veterans Affairs (15), 810 Vermont Avenue, NW., Washington, DC 20420. Those who plan to attend or have questions concerning the meeting may contact Mr. Flora at (202) 273-8969 or charles.flora@hq.med.va.gov.

Dated: January 23, 2004.
By Direction of the Secretary.
E. Philip Riggin,
Committee Management Officer.

[FR Doc. 04-2109 Filed 2-2-04; 8:45 am]

BILLING CODE 8320-01-M